DEPARTMENT OF COMMERCE

National Oceanic and Atmospheric Administration

[I.D. 050100A]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Scallop Committee and Advisory Panel, Habitat Committee and Advisory Panel, Enforcement Committee, and Gear Conflict Committee and Advisory Panel in May and June, 2000 to consider actions affecting New England fisheries in the exclusive economic zone (EEZ). Recommendations from these groups will be brought to the full Council for formal consideration and action, if appropriate.

DATES: The meetings will held between Wednesday, May 24, 2000 and Friday, June 2, 2000. See SUPPLEMENTARY INFORMATION for specific dates and times.

ADDRESSES: The meetings will be held in Peabody and Mansfield, MA. See SUPPLEMENTARY INFORMATION for specific locations.

Council address: New England Fishery Management Council, 50 Water Street, Mill 2, Newburyport, MA 01950.

FOR FURTHER INFORMATION CONTACT: Paul J. Howard, Executive Director, New England Fishery Management Council (978) 465-0492.

SUPPLEMENTARY INFORMATION:

Meeting Dates and Agendas

Wednesday, May 24, 2000, at 9:30 a.m. and Thursday, May 25, 2000, at 8:30 a.m.—Scallop Committee and Scallop Advisory Panel Joint Meeting

Location: Kings Grant Inn, Trask Road, Route 128, Exit 21N, Danvers, MA 01923; telephone: (978) 774-6800; fax: (978) 774-6502.

The committee and advisors will review and finalize the draft management alternatives for Amendment 10 to the fishery management plan. Part of the meeting on May 24, 2000 will be a joint meeting with the Habitat Committee and its advisors.

Amendment 10 considers new area rotation systems to improve scallop yield, changes to the framework adjustment process and timing, modifications to the crew size limit, and possible trawl gear modifications to improve size selection. The purpose of this meeting will be to evaluate draft Amendment 10 alternatives, identify potential impacts, and recommend modifications to these conceptual alternatives so that the potential impacts are taken into account.

The committee will recommend these draft alternatives to the Council at its June 14-15, 2000 meeting for inclusion and analysis in the Draft Supplemental Environmental Impact Statement.

Wednesday, May 24, 2000, at 9:30 a.m.—Habitat Committee and Habitat Advisory Panel Joint Meeting

Location: Kings Grant Inn, Trask Road, Route 128, Exit 21N, Danvers, MA 01923; telephone: (978) 774-6800; fax: (978) 774-6502.

The committee and advisors will discuss and develop recommendations for Amendment 10 to the Sea Scallop Fishery Management Plan. The purpose of this joint meeting will be to evaluate draft Amendment 10 alternatives, identify potential impacts, and recommend modifications to these conceptual alternatives so that the potential impacts are taken into account. This meeting is being held jointly with the Scallop Oversight Committee meeting announced above.

Thursday, June 1, 2000, at 9:30 a.m.—Joint Scallop Oversight Committee and Enforcement Committee Meeting

Location: Holiday Inn, 31 Hampshire Street, Mansfield, MA 02048; telephone: (508) 339-2200; fax: (508) 339-1040.

The committee will discuss and develop recommendations for Amendment 10 to the Sea Scallop Fishery Management Plan. The purpose of this joint meeting will be to evaluate draft Amendment 10 alternatives, identify potential impacts, and recommend modifications to these conceptual alternatives so that the potential impacts are taken into account. Also, the committee will evaluate enforcement of general category permit gear restrictions and will hear a presentation by the NMFS Office of Law Enforcement on enforcement of day-at-sea and closed area regulations through the Vessel Monitoring System.

Friday, June 2, 2000, at 9:30 a.m.—Joint Scallop Oversight Committee and Gear Conflict Committee Meeting

Location: Holiday Inn, 31 Hampshire Street, Mansfield, MA 02048; telephone: (508) 339-2200; fax: (508) 339-1040.

The committee will discuss and develop recommendations for Amendment 10 to the Sea Scallop Fishery Management Plan. The purpose of this joint meeting will be to evaluate draft Amendment 10 alternatives, identify potential impacts, and recommend modifications to these conceptual alternatives so that the potential impacts are taken into account.

Although non-emergency issues not contained in this agenda may come before this Council for discussion, those issues may not be the subject for formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: May 2, 2000.
Richard W. Surdi,
Acting Director, Office of Sustainable Fisheries, National Marine Fisheries Service.

[FR Doc. 00-11447 Filed 5-5-00; 8:45 am]

BILLING CODE 3510-22-F